CORPORATION FOR NATIONAL AND COMMUNITY SERVICE

Agency Information Collection Activities; Submission to the Office of Management and Budget for Review and Approval; Comment Request; Voucher and Payment Request Form

AGENCY: Corporation for National and Community Service.

ACTION: Notice of information collection; request for comment.

SUMMARY: The Corporation for National and Community Service, operating as AmeriCorps, has submitted a public information collection request (ICR) entitled Voucher and Payment Request form for review and approval in accordance with the Paperwork Reduction Act.

DATES: Written comments must be submitted to the individual and office listed in the ADDRESSES section by February 27, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Nahid Jarrett, at 202-606-6753 or by email to njarrett@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on Wednesday, January 20, 2023 at Vol. 87 FR 68683. This comment period ended January 17, 2023. No public comments were received from this Notice.

Title of Collection: National Service Trust AmeriCorps Voucher and Payment Request form.

OMB Control Number: 3045-0014. Type of Review: Renewal.

Respondents/Affected Public: Individuals using a Segal AmeriCorps Education Award, and authorized school officials and qualified student loan holders.

Total Estimated Number of Annual Responses: 34,385.

Total Estimated Number of Annual Burden Hours: 2,865.

Abstract: The National Service Trust AmeriCorps Voucher and Payment Request Form is used to make payments to repay qualified student loans and to pay for the cost of attending eligible post-secondary educational institutions and approved School-to-Work programs. Prior to making the payments, AmeriCorps will review information from the forms and compare it to information taken from the AmeriCorsp members' education award account(s) to ensure that the payments meet the requirements of the law. This information collection is not required to be considered for obtaining grant funding support. AmeriCorps seeks to renew the current information collection; it will be used in the same manner as the existing application. AmeriCorps also seeks to continue using the current application until the revised application is approved by OMB. The current application is due to expire on January 31, 2023.

Jerry Prentice,
Director, National Service Trust.

[FR Doc. 2023-01594 Filed 1-25-23; 8:45 am]

BILLING CODE 6050-28-P